DEPARTMENT OF ENERGY

Federal Energy Regulatory Commission

Combined Notice of Filings #1

Take notice that the Commission received the following electric corporate filings:

Docket Numbers: EC26-30-000.

Applicants: Nevada Cogeneration Associates #1.

Description: Application for Authorization Under Section 203 of the Federal Power Act of Nevada Cogeneration Associates #1.

Filed Date: 11/14/25.

Accession Number: 20251114-5277.

Comment Date: 5 p.m. ET 12/5/25.

Take notice that the Commission received the following exempt wholesale generator filings:

Docket Numbers: EG26-48-000.

Applicants: Atlas VI, LLC.

Description: Atlas VI, LLC submits Notice of Self-Certification of Exempt Wholesale Generator Status.

Filed Date: 11/14/25.

Accession Number: 20251114-5214.

Comment Date: 5 p.m. ET 12/5/25.

Docket Numbers: EG26-49-000.

Applicants: Atlas V, LLC.

Description: Atlas V, LLC submits Notice of Self-Certification of Exempt Wholesale Generator Status.

Filed Date: 11/14/25.

Accession Number: 20251114-5215.

Comment Date: 5 p.m. ET 12/5/25.

Docket Numbers: EG26-50-000.

Applicants: Cradle Solar, LLC.

Description: Cradle Solar, LLC submits Notice of Self-Certification of Exempt Wholesale Generator Status.

Filed Date: 11/17/25.

Accession Number: 20251117-5142.

Comment Date: 5 p.m. ET 12/8/25.

Docket Numbers: EG26-51-000.

Applicants: Goat Rock Solar, LLC.

Description: Goat Rock Solar, LLC submits Notice of Self-Certification of Exempt Wholesale Generator Status.

Filed Date: 11/17/25.

Accession Number: 20251117-5162.

Comment Date: 5 p.m. ET 12/8/25.

Docket Numbers: EG26-52-000.

Applicants: Hester Hill Solar, LLC.

Description: Hester Hill Solar, LLC submits Notice of Self-Certification of Exempt Wholesale Generator Status.

Filed Date: 11/17/25.

Accession Number: 20251117-5165.

Comment Date: 5 p.m. ET 12/8/25.

Docket Numbers: EG26-53-000.

Applicants: Pinewood Solar, LLC.

Description: Pinewood Solar, LLC submits Notice of Self-Certification of Exempt Wholesale Generator Status.

Filed Date: 11/17/25.

Accession Number: 20251117-5167.

Comment Date: 5 p.m. ET 12/8/25.

Docket Numbers: EG26-54-000.

Applicants: Southwest Atlanta Energy Storage, LLC.

Description: Southwest Atlanta Energy Storage, LLC submits Notice of Self-Certification of Exempt Wholesale Generator Status.

Filed Date: 11/17/25.

Accession Number: 20251117-5168.

Comment Date: 5 p.m. ET 12/8/25.

Take notice that the Commission received the following Complaints and Compliance filings in EL Dockets:

Docket Numbers: EL26-26-000.

Applicants: Pelican Power LLC v. Midcontinent Independent System Operator Inc.

Description: Complaint of Pelican Power LLC v. Midcontinent Independent System Operator Inc.

Filed Date: 11/14/25.

Accession Number: 20251114-5294.

Comment Date: 5 p.m. ET 12/15/25.

Docket Numbers: EL26-27-000.

Applicants: Kristina Pastoriza and Ruth Ward v. Public Service Company of New Hampshire.

Description: Complaint of Kristina Pastoriza and Ruth Ward v. Public Service Company of New Hampshire.

Filed Date: 11/17/25.

Accession Number: 20251117-5146.

Comment Date: 5 p.m. ET 12/8/25.

Take notice that the Commission received the following electric rate filings:

Docket Numbers: ER10-3084-002; ER10-3090-002; ER10-3087-002; ER10-3095-002; ER10-3085-002; ER10-3086-002; ER11-3367-001; ER12-2219-001; ER13-628-001; ER19-2252-002; ER23-1703-003.

Applicants: Stanton Battery Energy Storage, LLC, Stanton Energy Reliability Center, LLC, Wellhead Power Delano, LLC, W Power, LLC, Yuba City Cogeneration Partners, LP, El Cajon Energy, LLC, Escondido Energy Center, LLC, Wellhead Power eXchange, LLC, Wellhead Power Panoche, LLC, Fresno Cogeneration Partners, L.P., Chula Vista Energy Center, LLC.

Description: Triennial Market Power Analysis for Southwest Region of Chula Vista Energy Center, et al.

Filed Date: 11/17/25.

Accession Number: 20251117-5189.

Comment Date: 5 p.m. ET 1/16/26.

Docket Numbers: ER22-392-003.

Applicants: El Paso Electric Company.

Description: Compliance filing: Response to Deficiency Letter to be effective 1/1/2022.

Filed Date: 11/14/25.

Accession Number: 20251114-5224.

Comment Date: 5 p.m. ET 12/5/25.

Docket Numbers: ER25-2766-001.

Applicants: Midcontinent Independent System Operator, Inc., GridLiance Heartland LLC.

Description: Tariff Amendment: GridLiance Heartland LLC submits tariff filing per 35.17(b): 2025-11-17_Deficiency Response for GridLiance Heartland Logansport Integration to be effective 2/1/2026.

Filed Date: 11/17/25.

Accession Number: 20251117-5207.

Comment Date: 5 p.m. ET 12/8/25.

Docket Numbers: ER26-527-000.

Applicants: PJM Interconnection, L.L.C.

Description: § 205(d) Rate Filing: Proposed Market Mitigation for Advanced Scheduled Resources to be effective 10/1/2025.

Filed Date: 11/14/25.

Accession Number: 20251114-5227.

Comment Date: 5 p.m. ET 12/5/25.

Docket Numbers: ER26-528-000.

Applicants: Versant Power.

Description: Initial rate filing: Wholesale Distribution Tariff for Electric Energy Delivery to Energy Stor. Syst. to be effective 1/17/2026.

Filed Date: 11/17/25.

Accession Number: 20251117-5107.

Comment Date: 5 p.m. ET 12/8/25.

Docket Numbers: ER26-529-000.

Applicants: Pacific Gas and Electric Company.

Description: Notice of Termination of Service Agreement No. 271 under Pacific Gas and Electric Company FERC Electric Tariff Volume No. 4.

Filed Date: 11/14/25.

Accession Number: 20251114-5292.

Comment Date: 5 p.m. ET 12/5/25.

Docket Numbers: ER26-530-000.

Applicants: Pacific Gas and Electric Company.

Description: Notice of Termination of Service Agreement No. 555 under Pacific Gas and Electric Company's FERC Electric Tariff Volume No. 4.

Filed Date: 11/14/25.

Accession Number: 20251114-5293.

Comment Date: 5 p.m. ET 12/5/25.

Docket Numbers: ER26-531-000.

Applicants: PacifiCorp.

Description: § 205(d) Rate Filing: UAMPS Const Agt—St. George BTM Modeling (RS. No. 801) to be effective 1/17/2026.

Filed Date: 11/17/25.

Accession Number: 20251117-5138.

Comment Date: 5 p.m. ET 12/8/25.

Docket Numbers: ER26-532-000.

Applicants: Midcontinent Independent System Operator, Inc.

Description: § 205(d) Rate Filing: 2025-11-17_SA 4595 Ameren Illinois-Rebuild Moro Laclede NTAP MPFCA to be effective 1/17/2026.

Filed Date: 11/17/25.

Accession Number: 20251117-5171.

Comment Date: 5 p.m. ET 12/8/25.

Docket Numbers: ER26-533-000.

Applicants: Alabama Power Company, Georgia Power Company, Mississippi Power Company.

Description: § 205(d) Rate Filing: Alabama Power Company submits tariff filing per 35.13(a)(2)(iii: Wilsonville Solar LGIA Amendment Filing to be effective 11/3/2025.

Filed Date: 11/17/25.

Accession Number: 20251117-5178.

Comment Date: 5 p.m. ET 12/8/25.

Docket Numbers: ER26-534-000.

Applicants: Sierra Pacific Power Company.

Description: § 205(d) Rate Filing: Filing of Amended Liberty PPA to be effective 12/29/2025.

Filed Date: 11/17/25.

Accession Number: 20251117-5192.

Comment Date: 5 p.m. ET 12/8/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 17, 2025.
Carlos D. Clay,
Deputy Secretary.

[FR Doc. 2025-20427 Filed 11-19-25; 8:45 am]

BILLING CODE 6717-01-P